DEPARTMENT OF ENERGY

Federal Energy Regulatory Commission

[Docket No. RP01-245-003]

Transcontinental Gas Pipe Line Corporation; Notice of Compliance Filing

September 7, 2001.

Take notice that on August 31, 2001 Transcontinental Gas Pipe Line Corporation (Transco) tendered for filing as part of its FERC Gas Tariff, Third Revised Volume No. 1, certain revised tariff sheets, which tariff sheets are enumerated in Appendix A attached to the filing. The tariff sheets are proposed to become effective September 1, 2001.

Transco states that the purpose of the instant filing is to place into effect on September 1, 2001, the end of the suspension period in this proceeding, the rates filed therein on March 1, 2001, adjusted (i) to eliminate the costs associated with facilities not in service as of August 31, 2001, the end of the RP01-245 test period; and (ii) to incorporate, as appropriate, intervening filings which have been made effective subsequent to the March 1, 2001 filing in this docket.

Transco states it is serving copies of the instant filing to its customers, interested State Commissions, and other interested parties to Docket No. RP01-245.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-23108 Filed 9-14-01; 8:45 am]

BILLING CODE 6717-01-P